DEPARTMENT OF COMMERCE

National Oceanic and Atmospheric Administration

RIN: 0648-XT55

Pacific Fishery Management Council; Public Meetings and Hearings

AGENCY: National Marine Fisheries Service (NMFS), National Oceanic and Atmospheric Administration (NOAA), Commerce.

ACTION: Notice of availability of reports; public meetings, and hearings.

SUMMARY: The Pacific Fishery Management Council (Council) has begun its annual preseason management process for the 2010 ocean salmon fisheries. This document announces the availability of Council documents as well as the dates and locations of Council meetings and public hearings comprising the Council(s complete schedule of events for determining the annual proposed and final modifications to ocean salmon fishery management measures. The agendas for the March and April 2010 Council meetings will be published in subsequent Federal Register documents prior to the actual meetings.

DATES: Written comments on the salmon management options must be received by 11:59 p.m. Pacific Time, April 1, 2010.

ADDRESSES: Documents will be available from, and written comments should be sent to, Mr. David Ortmann, Chairman, Pacific Fishery Management Council, 7700 NE Ambassador Place, Suite 101, Portland, OR 97220-1384, telephone: (503) 820-2280 (voice) or (503) 820-2299 (fax). Comments can also be submitted via e-mail at PFMC.comments@noaa.gov. address, or through the internet at the Federal eRulemaking Portal: http://www.regulations.gov. Follow the instructions for submitting comments, and include the I.D. number in the subject line of the message. For specific meeting and hearing locations, see supplementary information.

Council address: Pacific Fishery Management Council, 7700 NE Ambassador Place, Suite 101, Portland, OR 97220.

FOR FURTHER INFORMATION CONTACT: Mr. Chuck Tracy, telephone: (503) 820-2280.

SUPPLEMENTARY INFORMATION:

Schedule for Document Completion and Availability

February 25, 2010: “Review of 2009 Ocean Salmon Fisheries” and “Preseason Report I-Stock Abundance Analysis for 2010 Ocean Salmon Fisheries” will be mailed to the public and posted on the Council website at http://www.pcouncil.org.

March 23, 2010: “Preseason Report II-Analysis of Proposed Regulatory Options for 2010 Ocean Salmon Fisheries” and public hearing schedule will be mailed to the public and posted on the Council website at http://www.pcouncil.org. The report will include a description of the adopted salmon management options and a summary of their biological and economic impacts.

April 23, 2010: “Preseason Report III-Analysis of Council-Adopted Ocean Salmon Management Measures for 2010 Ocean Salmon Fisheries” will be mailed to the public and posted on the Council website at http://www.pcouncil.org.

May 1, 2010: Federal regulations for 2010 ocean salmon regulations will be published in the Federal Register and implemented.

Meetings and Hearings

January 19-22, 2010: The Salmon Technical Team (STT) will meet at the Council office in a public work session to draft “Review of 2009 Ocean Salmon Fisheries” and to consider any other estimation or methodology issues pertinent to the 2010 ocean salmon fisheries.

February 16-19, 2010: The STT will meet at the Council office in a public work session to draft “Preseason Report I-Stock Abundance Analysis for 2010 Ocean Salmon Fisheries” and to consider any other estimation or methodology issues pertinent to the 2010 ocean salmon fisheries.

March 29-30, 2010: Public hearings will be held to receive comments on the proposed ocean salmon fishery management options adopted by the Council. Written comments received at the public hearings, and a summary of oral comments at the hearings will be provided to the Council at its April meeting.

All public hearings begin at 7 p.m. at the following locations:

March 29, 2010: Chateau Westport, Beach Room, 710 W Hancock, Westport, WA 98595, telephone: (360) 268-9101.

March 29, 2010: Red Lion Hotel, Umpqua Room, 1313 N Bayshore Drive, Coos Bay, OR 97420, telephone: (541) 269-4099.

March 30, 2010: Red Lion Eureka, Evergreen Room, 1929 Fourth Street, Eureka, CA 95501, telephone: (707) 445-0844.

Although non-emergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT(s intent to take final action to address the emergency.

Special Accommodations

The meetings are physically accessible to people with disabilities. Requests for sign language interpretation or other auxiliary aids should be directed to Ms. Carolyn Porter at (503) 820-2280 (voice), or (503) 820-2299 (fax) at least 5 days prior to the meeting date.

Authority: 16 U.S.C. 1801 et. seq.

Dated: December 23, 2009.
Tracey L. Thompson,
Acting Director, Office of Sustainable Fisheries, National Marine Fisheries Service.

[FR Doc. E9-30883 Filed 12-29-09; 8:45 am]

BILLING CODE 3510-22-S